DEPARTMENT OF DEFENSE

Defense Acquisition Regulations System

[Docket Number: DARS-2014-0013]

Information Collection Requirement; Defense Federal Acquisition Regulation Supplement (DFARS); Warranty Tracking of Serialized Items

AGENCY: Defense Acquisition Regulations System, Department of Defense (DoD).

ACTION: Notice and request for comments regarding a proposed extension of an approved information collection requirement.

SUMMARY: In compliance with section 3506(c)(2)(A) of the Paperwork Reduction Act of 1995 (44 U.S.C. chapter 35), DoD announces the proposed extension of a public information collection requirement and seeks public comment on the provisions thereof. DoD invites comments on: (a) whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through May 31, 2014. DoD proposes that OMB extend its approval for use for three additional years beyond the current expiration date.

DATES: DoD will consider all comments received by April 25, 2014.

ADDRESSES: You may submit comments, identified by OMB Control Number 0704-0481, using any of the following methods:

Federal eRulemaking Portal: http://www.regulations.gov. Follow the instructions for submitting comments.

Email: dfars@mail.mil. Include OMB Control Number 0704-0481 in the subject line of the message.

Fax: 571-372-6094.

Mail: Defense Acquisition Regulations System, Attn: Mr. Dustin Pitsch, OUSD(AT&L)DPAP(DARS), 3060 Defense Pentagon, Room 3B855, Washington, DC 20301-3060.

Comments received generally will be posted without change to http://www.regulations.gov, including any personal information provided.

FOR FURTHER INFORMATION CONTACT: Mr. Dustin Pitsch, 571-372-6090. The information collection requirements addressed in this notice are available on the World Wide Web at: http://www.acq.osd.mil/dpap/dars/dfarspgi/current/index.html. Paper copies are available from Mr. Dustin Pitsch, OUSD(AT&L)DPAP(DARS), 3060 Defense Pentagon, Room 3B855, Washington, DC 20301-3060.

SUPPLEMENTARY INFORMATION: Title, Associated Form, and OMB Number: Defense Federal Acquisition Regulation Supplement (DFARS), Warranty Tracking of Serialized Items; OMB Control Number 0704-0481.

Needs and Uses: DoD needs this information to identify items purchased with a warranty and to ensure that the Government has the information necessary to take advantage of warranties provided by the contractor.

Affected Public: Businesses or other for-profit and not-for profit institutions.

Annual Burden Hours: 27,000.

Number of Respondents: 38,000.

Responses per Respondent: Approximately 1.4.

Annual Responses: 54,000.

Average Burden per Response: Approximately 30 minutes.

Frequency: On occasion.

Summary of Information Collection

This information collection includes requirements relating to DFARS part 246, Quality Assurance. The clause and provision prescribed as listed below are required to be used when it is anticipated that the resulting contract will include a warranty for serialized items.

a. DFARS 246.710(5)(i)(A) prescribes use of the provision at DFARS 252.246-7005, Notice of Warranty Tracking of Serialized Items. The provision is used to require offerors to provide warranty tracking information for each contract line item, subline item, or exhibit line for warranted items. In addition, offerors are required to include information on applicable warranty repair sources.

b. DFARS 246.710(5)(i)(B) prescribes use of the clause at DFARS 252.246-7006, Warranty Tracking of Serialized Items. The clause requires contractors to report updated tracking information for each item carrying a warranty prior to presenting the warranted items for receipt and/or acceptance.

DFARS 246.710-70, Warranty Attachment, includes the prescribed attachment and format referenced in the two DFARS clauses. The format includes headings for the information required for each item carrying a warranty. The required information includes, for example, the duration of the warranty, the warranty administrator's contact information, and the unit item identifier for the warranted item.

Manuel Quinones,
Editor, Defense Acquisition Regulations System.

[FR Doc. 2014-03858 Filed 2-21-14; 8:45 am]

BILLING CODE 5001-06-P